ARCTIC RESEARCH COMMISSION

[Docket No. USARC 06-31]

Arctic Research Commission Meeting

March 17, 2006.

Notice is hereby given that the U.S. Arctic Research Commission will hold its 79th meeting in Arlington, VA on April 18-20, 2006. The Business Session, open to the public, will convene at 8 a.m. Tuesday, April 18, 2006. An Executive Session will follow adjournment of the Business Session.

The Agenda items include:

(1) Call to order and approval of the Agenda.

(2) Approval of the Minutes of the 78th Meeting.

(3) Reports from Congressional Liaisons.

(4) Agency Reports.

The focus of the meeting will be reports and updates on programs and research projects affecting the Arctic.

Any person planning to attend this meeting who requires special accessibility features and/or auxiliary aids, such as sign language interpreters, must inform the Commission in advance of those needs.

CONTACT PERSON FOR MORE INFORMATION: Dr. Garrett W. Brass, Executive Director, U.S. Arctic Research Commission, 703-525-0111 or TDD 703-306-0090.

Kay Brown,
Office Administrator.

[FR Doc. 06-3134 Filed 3-30-06; 8:45 am]

BILLING CODE 7555-01-M